DEPARTMENT OF COMMERCE

International Trade Administration

[A-201-817]

Oil Country Tubular Goods From Mexico: Rescission of Antidumping Duty Administrative Review

AGENCY: Import Administration, International Trade Administration, Department of Commerce.

ACTION: Notice of Rescission of Antidumping Duty Administrative Review.

SUMMARY: On September 25, 2002, the Department of Commerce (the Department) published in the Federal Register a notice announcing the initiation of an administrative review of the antidumping duty order on oil country tubular goods (OCTG) from Mexico. See Initiation of Antidumping and Countervailing Duty Administrative Reviews and Requests for Revocation in Part, 67 FR 60210 (September 25, 2002) (Initiation). The period of review (POR) is August 1, 2001 to July 31, 2002. This review has now been rescinded because there were no entries for consumption of subject merchandise that are subject to review in the United States during the POR.

EFFECTIVE DATE: September 8, 2003.

FOR FURTHER INFORMATION CONTACT: Phyllis Hall or Abdelali Elouaradia, Enforcement Group III, Office 8, Import Administration, International Trade Administration, U.S. Department of Commerce, 14th Street and Constitution Avenue, N.W., Room 7866, Washington, D.C. 20230; telephone (202) 482-1398 or (202) 482-1374 respectively.

Scope of Review

Imports covered by this review are oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of this proceeding is dispositive.

The Department has determined that couplings, coupling stock and drill pipe are not within the scope of the antidumping order on OCTG from Mexico. See Letter to Interested Parties; Final Affirmative Scope Decision, August 27, 1998. See Continuation of Countervailing and Antidumping Duty Orders on Oil Country Tubular Goods From Argentina, Italy, Japan, Korea and Mexico, and Partial Revocation of Those Orders From Argentina and Mexico With Respect to Drill Pipe, 66 FR 38630, July 25, 2001.

Background

On August 30, 2002, United States Steel Corporation (petitioner), requested an administrative review of Tubos de Acero de Mexico S.A. (TAMSA), a Mexican producer and exporter of OCTG, with respect to the antidumping order published in the Federal Register. See Antidumping Duty Order: Oil Country Tubular Goods From Mexico, 60 FR 41055 (August 11, 1995). Additionally, respondent Hylsa, S.A. de C.V. (Hylsa) requested that the Department conduct an administrative review of Hylsa. On September 11, 2002, Hylsa withdrew its request and requested that the Department terminate the review. Therefore, the Department did not initiate with respect to Hylsa. We initiated the review for TAMSA. See Initiation.

SUPPLEMENTARY INFORMATION: On October 11, 2002, the Department issued an antidumping duty questionnaire to TAMSA. On November 1, 2002, TAMSA and Siderca Corporation (TAMSA's U.S. affiliate) claimed that they “did not directly or indirectly, enter for consumption, or sell, export or ship for entry for consumption in the United States subject merchandise during the period of review.” Petitioner subsequently claimed on November 12, 2002, that publicly available import data from the Department's IM-145 database showed that 2,187 metric tons of seamless OCTG from Mexico entered the United States during the POR. Petitioner asserted that TAMSA was the only producer of seamless OCTG in Mexico. Petitioner requested that the Department investigate these transactions to determine whether this merchandise is subject to review. On December 10, 2002, the Department forwarded a no-shipment inquiry to Customs for circulation to all Customs ports. Customs did not indicate to the Department that there was any record of consumption entries during the POR of OCTG from Mexico exported by TAMSA. As part of this investigation, the Department issued supplemental questionnaires on March 28, 2003, and April 14, 2003. On April 4, 2003 and April 23, 2003, TAMSA submitted its responses to the supplemental questionnaires.

The Department has thoroughly investigated proprietary information from U.S. Customs Service (as of March 1, 2003, renamed the U.S. Bureau of Customs and Border Protection) (Customs) for all HTSUS numbers covered by the scope of this review. After reviewing the Customs information and the public data submitted by petitioner, the Department determined that the merchandise entered during the POR was exported from a third country or was exported to a foreign trade zone by TAMSA. The Department notes that the merchandise was entered under the proper country of export (the third country or Mexico) and the merchandise was declared as being of Mexican origin and was entered subject to duty.

Finally, the Department requested additional information from Customs and the respondent regarding certain entries. Both Customs and TAMSA submitted information pertaining to these entries (see August 6, 2003 TAMSA submission). The documentation clearly indicates the merchandise was first admitted into a foreign trade zone. After further analysis we found that these entries were subsequently entered for consumption in the U.S. and were subject to antidumping duties. After reviewing the information, the Department determines that TAMSA had no knowledge that these sales were destined for consumption in the United States. Under these circumstances, Petitioners did not object to rescinding this review involving these entries of subject merchandise produced by TAMSA. See Memorandum to the File From Richard O. Weible dated August 21, 2003.

Accordingly, we are rescinding this review. The cash deposit rate will continue to be the rate established in the most recently completed segment of this proceeding.

This notice is issued and published in accordance with sections 777(i) of the Act and 19 CFR 351.213(d)(4).

Dated: September 2, 2003.
James J. Jochum,
Assistant Secretary for Import Administration.

[FR Doc. 03-22784 Filed 9-05-03; 8:45 am]

BILLING CODE 3510-DS-S